DEPARTMENT OF AGRICULTURE

Forest Service

Ravalli County Resource Advisory Committee, Hamilton, MT

Time and Date: March 18, 2002; 6:30 p.m.

Place: Ravalli County Courthouse, 205 Bedford, Hamilton, Montana.

Status: The meeting is open to the public.

Matters To Be Considered: Agenda topics will include Project Solicitation and Review process, and a public forum (question and answer session). The meeting is being held pursuant to the authorities in the Federal Advisory Committee Act (Public Law 92-463) and under the Secure Rural Schools and Community Self-Determination Act of 2000 (Public Law 106-393).

FOR FURTHER INFORMATION CONTACT: Jeanne Higgins, Stevensville District Ranger and Designated Federal Officer, Phone: (406) 777-5461.

Dated: February 28, 2002.
Rodd Richardson,
Forest Supervisory.

[FR Doc. 02-5425 Filed 3-6-02; 8:45 am]

BILLING CODE 3410-11-M